DEPARTMENT OF COMMERCE

International Trade Administration

[C-570-074]

Common Alloy Aluminum Sheet From the People's Republic of China: Final Results of Countervailing Duty Administrative Review; 2022

AGENCY: Enforcement and Compliance, International Trade Administration, Department of Commerce.

SUMMARY: The U.S. Department of Commerce (Commerce) determines that countervailable subsidies were provided to producers and exporters of common alloy aluminum sheet (CAAS) from the People's Republic of China (China) during the period of review (POR), January 1, 2022, through December 31, 2022.

DATES: Applicable September 4, 2024.

FOR FURTHER INFORMATION CONTACT: Scarlet K. Jaldin or Amber Hodak, AD/CVD Operations, Office VI, Enforcement and Compliance, International Trade Administration, U.S. Department of Commerce, 1401 Constitution Avenue NW, Washington, DC 20230; telephone: (202) 482-4275 or (202) 482-8034, respectively.

SUPPLEMENTARY INFORMATION:

Background

On March 5, 2024, Commerce published the Preliminary Results of this administrative review in the Federal Register.¹ On June 6, 2024, Commerce extended the deadline for issuing these final results to August 21, 2024.² On July 12, 2024, Commerce released its Post-Preliminary Analysis.³ On July 12, 2024, we invited parties to comment on both the Preliminary Results and the Post-Preliminary Results.⁴ We received timely filed case and rebuttal briefs from Aluminum Association Common Alloy Aluminum Sheet Trade Enforcement Working Group and its individual members ⁵ (collectively, the domestic industry),⁶ Jiangsu Alcha Aluminum Co., Ltd. (Jiangsu Alcha), Yinbang Clad Material Co., Ltd. (Yinbang). On July 22, 2024, Commerce tolled certain deadlines in this administrative proceeding by seven days.⁷ The deadline for the final results is now August 28, 2024. For a detailed description of the events that followed the Preliminary Results, see the Issues and Decision Memorandum.⁸

¹ See Common Alloy Aluminum Sheet from the People's Republic of China: Preliminary Results of Countervailing Duty Administrative Review and Rescission of Review, in Part; 2022, 89 FR 15819 (March 5, 2024) (Preliminary Results), and accompanying Preliminary Decision Memorandum (PDM).

² See Memorandum, “Extension of Deadline for Final Results of Countervailing Duty Administrative Review,” dated June 6, 2024.

³ See Memorandum, “Post-Preliminary Analysis,” dated July 12, 2024 (Post Preliminary Results).

⁴ See Memorandum, “Briefing Schedule,” dated July 12, 2024.

⁵ The individual members of the Aluminum Association Common Alloy Aluminum Sheet Trade Enforcement Working Group are: Arconic Corporation; Commonwealth Rolled Products, Inc; Constellium Rolled Products Ravenswood, LLC; Jupiter Aluminum Corporation; JW Aluminum Company; and Novelis Corporation.

⁶ See Jiangsu Alcha and Yinbang's Letter, “Case Brief,” dated April 4, 2024; see also Domestic Industry's Letter, “Domestic Industry's Affirmative Case Brief,” dated July 22, 2024; Domestic Industry's Letter, “Domestic Industry's Rebuttal Case Brief,” dated July 29, 2024 (Domestic Industry's Rebuttal Brief); and Alcha Group's Letter, “Rebuttal Case Brief,” dated July 29, 2024 (Alcha Group's Rebuttal Brief).

⁷ See Memorandum, “Tolling of Deadlines for Antidumping and Countervailing Duty Proceedings,” dated July 22, 2024.

⁸ See Memorandum, “Decision Memorandum for the Final Results of the Countervailing Duty Administrative Review of Common Alloy Aluminum Sheet from the People's Republic of China; 2022,” dated concurrently with, and hereby adopted by, this notice (Issues and Decision Memorandum).

Scope of the Order ⁹

⁹ See Common Alloy Aluminum Sheet from the People's Republic of China: Countervailing Duty Order, 84 FR 2157 (February 6, 2019) (Order).

The product covered by the Order is CAAS from China. For a complete description of the scope of the of the Order, see the Issues and Decision Memorandum.

Analysis of Comments Received

All issues raised by the interested parties in their case briefs are addressed in the Issues and Decision Memorandum. A list of the issues raised is attached as an appendix to this notice. The Issues and Decision Memorandum is a public document and is on file electronically via Enforcement and Compliance's Antidumping and Countervailing Duty Centralized Electronic System (ACCESS). ACCESS is available to registered users at https://access.trade.gov. In addition, a complete version of the Issues and Decision Memorandum can be accessed directly at https://access.trade/gov/public/FRNoticesListLayout.aspx.

Changes Since the Preliminary Results

Based on arguments raised and a review of the record and all supporting documentation, we made certain changes to the Preliminary Results with respect to the subsidy rate calculations for the provision of primary aluminum for less than adequate remuneration (LTAR), the provision of electricity for LTAR, and Alcha Group's 2022 equity infusion. For a discussion of the issues and changes, see Issues and Decision Memorandum.

Methodology

Commerce conducted this administrative review in accordance with section 751(a)(1)(A) of the Tariff Act of 1930, as amended (the Act). For each of the subsidy programs found to be countervailable, we determine that there is a subsidy, i.e., a financial contribution from a government or public entity that gives rise to a benefit to the recipient, and that the subsidy is specific.¹⁰ For a full description of the methodology underlying Commerce's conclusions, including our reliance, in part, on facts otherwise available with adverse inferences pursuant to sections 776(a) and (b) of the Act, see the Issues and Decision Memorandum.

¹⁰ See sections 771(5)(B) and (D) of the Act regarding financial contribution; section 771(5)(E) of the Act regarding benefit; and section 771(5A) of the Act regarding specificity.

Final Results of Administrative Review

In accordance with 19 CFR 351.221(b)(5), Commerce calculated the following net countervailable subsidy rates for the period January 1, 2022, through December 31, 2022:

¹¹ See Initiation of Antidumping and Countervailing Duty Administrative Reviews, 88 FR 21609, 21624 (April 11, 2023) (Initiation Notice). In the Initiation Notice, Commerce also initiated a review on Jiangsu Alcha Aluminium Group., Ltd. and Jiangsu Alcha Aluminum Group Co., Ltd. The respondent reported that Jiangsu Alcha Aluminium Group Co., Ltd. is the current legal name of the company, but is used interchangeably with Jiangsu Alcha Aluminum Group Co., Ltd. The respondent also reported that due to the recent change, Jiangsu Alcha Aluminum Group Co., Ltd. and Jiangsu Alcha Aluminium Group Co., Ltd. refer to the same entity.

¹² It was reported that although the legal name for one of Jiangsu Alcha's subsidiaries is “Baotou Alcha Aluminium Co., Ltd.,” other names (i.e., “Baotou Alcha Aluminum Co., Ltd.,” “Baotou Alcha North Aluminum Co., Ltd.,” and “Baotou Changlv Northern Aluminium Industry Co., Ltd.”) also refer to the same entity due to different English translations of its Chinese-language name. Accordingly, we have treated “Baotou Alcha Aluminium Co., Ltd.,” “Baotou Alcha Aluminum Co., Ltd.,” “Baotou Alcha North Aluminum Co., Ltd.,” and “Baotou Changlv Northern Aluminium Industry Co., Ltd.” as one entity (Baotou Alcha). For further discussion, see supra, n.11; see also Preliminary Results PDM.

¹³ See Preliminary Results PDM at Section II, “Background.”

¹⁴ We calculated this company's rate based entirely on AFA, in accordance with section 776 of the Act. See Preliminary Results PDM at 19-25.

Company | Subsidy rate (percent ad valorem)
Jiangsu Alcha Aluminium Group Co., Ltd., and Jiangsu Alcha Aluminum Group Co., Ltd. (both formerly known as Jiangsu Alcha Aluminum Co., Ltd., Jiangsu Alcha Aluminium Co., Ltd.); ¹¹ Alcha International Holdings Limited; Baotou Alcha Aluminium Co., Ltd., Baotou Alcha Aluminum Co., Ltd., Baotou Alcha North Aluminum Co., Ltd., and Baotou Changlv Northern Aluminium Industry Co., Ltd.; ¹² and Jiangsu Alcha New Energy Materials Co., Ltd.¹³ | 21.41
Yinbang Clad Material Co., Ltd | 22.76
Zhengzhou Mingtai Industry Co., Ltd.¹⁴ | 373.06

Disclosure

Commerce intends to disclose the calculations and analysis performed to interested parties for these final results within five days of any public announcement or, if there is no public announcement, within five days of the date of publication of the notice of final results in the Federal Register, in accordance with 19 CFR 351.224(b).

Assessment Rates

Pursuant to section 751(a)(2)(C) of the Act and 19 CFR 351.212(b)(2), Commerce has determined, and U.S. Customs and Border Protection (CBP) shall assess, countervailing duties on all appropriate entries for the above-listed companies at the applicable ad valorem assessment rates. Commerce intends to issue assessment instructions to CBP no earlier than 35 days after the publication of the final results of this review in the Federal Register. If a timely summons is filed at the U.S. Court of International Trade, the assessment instructions will direct CBP not to liquidate relevant entries until the time for parties to file a request for a statutory injunction has expired (i.e., within 90 days of publication).

Cash Deposit Instructions

In accordance with section 751(a)(1) of the Act, Commerce also intends to instruct CBP to collect cash deposits of estimated countervailing duties in the amounts shown for each company above on shipments of subject merchandise entered, or withdrawn from warehouse, for consumption on or after the date of publication of the final results of this administrative review. With regard to Jiangsu Alcha, we intend to instruct CBP to collect cash deposits of estimated countervailing duties under its new names (i.e., “Jiangsu Alcha Aluminium Group Co., Ltd.” and “Jiangsu Alcha Aluminum Group Co., Ltd.”). Concerning Baotou Alcha, we intend to instruct CBP to collect cash deposits of estimated countervailing duties under all of its names as identified in this notice. These cash deposit requirements, effective upon publication of these final results, shall remain in effect until further notice.

Administrative Protective Order

This notice also serves as a final reminder to parties subject to an administrative protective order (APO) of their responsibility concerning the disposition of proprietary information disclosed under APO in accordance with 19 CFR 351.305(a)(3), which continues to govern business proprietary information in this segment of the proceeding. Timely written notification of the return or destruction of APO materials or conversion to judicial protective order, is hereby requested. Failure to comply with the regulations and terms of an APO is a sanctionable violation.

Notification to Interested Parties

These final results are issued and published in accordance with sections 751(a)(l) and 777(i)(l) of the Act, and 19 CFR 351.221(b)(5).

Dated: August 28, 2024.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Order

IV. Use of Facts Otherwise Available and Application of Adverse Inferences

V. Subsidies Valuation Information

VI. Analysis of Programs

VII. Programs Determined to Confer a Non-Measurable Benefit During the POR

VIII. Programs Determined to Be Not Used

IX. Changes Since the Preliminary Results

X. Discussion of the Issues

Comment 1: Whether Commerce Failed to Ensure the Consistency and Accuracy of the Primary Aluminum Pricing Data

Comment 2: Whether Commerce Should Continue to Use the Average Prices for Alloyed and Non-Alloyed Aluminum to Calculate the Primary Aluminum Benchmark

Comment 3: Whether Commerce Should Use a Different Value Added Tax Rate When Calculating the Primary Aluminum Benchmark

Comment 4: Whether Commerce Should Correct Its Calculation of Inland Freight

Comment 5: Whether Commerce Should Continue to Apply Facts Available to Yinbang's Provision of Land for LTAR

Comment 6: Whether Commerce Should Continue to Apply Facts Available to Alcha Group's Policy Loans to the CAAS Industry

Comment 7: Whether Commerce Should Revise Its Methodology to Attribute Alcha International's Policy Loans

Comment 8: Whether Commerce Should Revise the Calculations for the Provision of Electricity

XI. Recommendation

[FR Doc. 2024-19832 Filed 9-3-24; 8:45 am]

BILLING CODE 3510-DS-P